DEPARTMENT OF TRANSPORTATION

Federal Aviation Administration

14 CFR Part 39

[Docket No. 2001-SW-56-AD; Amendment 39-12601; AD 2001-25-51]

RIN 2120-AA64

Airworthiness Directives; MD Helicopters, Inc. Model MD900 Helicopters

AGENCY: Federal Aviation Administration, DOT.

ACTION: Final rule; request for comments.

SUMMARY: This document publishes in the Federal Register an amendment adopting Airworthiness Directive (AD) 2001-25-51, which was sent previously to all known U.S. owners and operators of MD Helicopters, Inc. (MDHI) Model MD900 helicopters by individual letters. This AD requires performing a dual power confirmation test on the Integrated Instrument Display System (IIDS) and inserting a revision to the Rotorcraft Flight Manual (RFM), as applicable. If the IIDS fails the power test, replacing it is required before further flight. Removing the temporary revision when the IIDS is replaced and inserting the applicable revision into the RFM is also required. This AD is prompted by the failure of the IIDS during a helicopter hover operation. The actions specified by this AD are intended to prevent total power failure of the IIDS and the subsequent inability to monitor information and warning indications essential for the operation of the helicopter.

DATES: Effective February 1, 2002, to all persons except those persons to whom it was made immediately effective by Emergency AD 2001-25-51, issued on December 7, 2001, which contained the requirements of this amendment.

The incorporation by reference of certain publications listed in the regulations is approved by the Director of the Federal Register as of February 1, 2002.

Comments for inclusion in the Rules Docket must be received on or before March 18, 2002.

ADDRESSES: Submit comments in triplicate to the Federal Aviation Administration (FAA), Office of the Regional Counsel, Southwest Region, Attention: Rules Docket No. 2001-SW-56-AD, 2601 Meacham Blvd., Room 663, Fort Worth, Texas 76137. You may also send comments electronically to the Rules Docket at the following address: 9-asw-adcomments@faa.gov.

The applicable service information may be obtained from MD Helicopters Inc., Attn: Customer Support Division, 4555 E. McDowell Rd., Mail Stop M615-GO48, Mesa, Arizona 85215-9734, telephone 1-800-388-3378, fax 480-891-6782, or on the web at www.mdhelicopters.com. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Guy Dalla Riva, Aviation Safety Engineer, FAA, Los Angeles Aircraft Certification Office, Propulsion Branch, 3960 Paramount Blvd., Lakewood, California 90712, telephone (562) 627-5248, fax (562) 627-5210.

SUPPLEMENTARY INFORMATION: On December 7, 2001, the FAA issued Emergency AD 2001-25-51 for MDHI Model MD900 helicopters, which requires performing a dual power confirmation test on the IIDS and inserting a revision to the RFM, as applicable. If the IIDS fails the power test, replacing it is required before further flight. Removing the temporary revision when the IIDS is replaced and inserting the applicable revision into the RFM is also required. That action was prompted by the failure of the IIDS during a helicopter hover operation. The failure was attributed to an error in the manufacturing process and a design deficiency. Failure of the IIDS, if not corrected, could result in the inability to monitor information and warning indications essential for the operation of the helicopter.

The FAA has reviewed MDHI Service Bulletin SB900-081R1, dated November 8, 2001 (SB), which describes procedures for inspecting and replacing the IIDS and inserting revisions into the RFM.

Since the unsafe condition described is likely to exist or develop on other MDHI MD900 helicopters of the same type design, the FAA issued Emergency AD 2001-25-51 to prevent total power failure of the IIDS and the subsequent inability to monitor information and warning indications essential for the operation of the helicopter. The AD requires the following within 10 days:

• Perform an IIDS dual power confirmation test.

• If the IIDS continues to operate after the dual power confirmation test, insert into the RFM the applicable TEMPORARY RFM revisions that state the pilot must “land as soon as possible” after an IIDS failure.

• If the IIDS does not continue to operate, replace it with a specified IIDS before further flight. Insert into the RFM the applicable RFM revision that states the pilot must “land as soon as practical” after total power failure of the IIDS.

• Remove the TEMPORARY RFM revisions when the IIDS is replaced in accordance with this AD, and insert the applicable RFM revision into the RFM.

The actions must be accomplished in accordance with the SB described previously. The short compliance time involved is required because the previously described critical unsafe condition can adversely affect the controllability of the helicopter. Therefore, the actions previously described are required as indicated, and this AD must be issued immediately.

Since it was found that immediate corrective action was required, notice and opportunity for prior public comment thereon were impracticable and contrary to the public interest, and good cause existed to make the AD effective immediately by individual letters issued on December 7, 2001 to all known U.S. owners and operators of MDHI Model MD900 helicopters. These conditions still exist, and the AD is hereby published in the Federal Register as an amendment to 14 CFR 39.13 to make it effective to all persons.

The FAA estimates that 53 helicopters of U.S. registry will be affected by this AD. It will take approximately 1 work hour per helicopter to perform the dual power confirmation test and 1 work hour to replace the IIDS, if necessary. The manufacturer has stated in the SB that they will provide replacement IIDS at no cost. Based on these figures, the total cost impact of the AD on U.S. operators is estimated to be $6360, assuming that the IIDS is replaced on each helicopter.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-56-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-25-51 MD Helicopters, Inc.: Amendment 39-12601. Docket No. 2001-SW-56-AD.

Applicability: Model MD900 helicopters, serial numbers (S/N) 900-00008 through 900-00107, with integrated instrument display system (IIDS), part number (P/N) 900A3720002-107, -109, -111, or -113, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required within 10 days, unless accomplished previously.

To prevent failure of the IIDS and the subsequent inability to monitor information and warning indications essential for the operation of the helicopter, accomplish the following:

(a) Conduct a dual power confirmation test (power test) with external power ON or both generators on line in accordance with Section 2, Accomplishment Instructions, paragraphs 2.B.(1), 2.B.(2), and 2.B.(3), of MD Helicopters Service Bulletin SB900-081R1, dated November 8, 2001.

(1) If the IIDS continues to operate after the power test, insert into the Rotorcraft Flight Manual (RFM) the applicable TEMPORARY RFM revision stating that the pilot must “land as soon as possible” after an IIDS failure:

(i) TR01-001, dated November 2, 2001, into RFM CSP-900RFM-1 (Reissue 1), CSP-900ERFM-1, CSP-902RFM-1 (Reissue 1), or CSP-902RFM207E-1; and

(ii) TR01-002, dated November 28, 2001, into RFM CSP-902RFM-1 (Reissue 1), or CSP-902RFM207E-1.

(2) If the IIDS does not continue to operate after the power test, before further flight:

(i) Replace IIDS, P/N 900A3720002-107 with 900A3720002-115; 900A3720002-111 with 900A3720002-117; 900A3720002-109 with 900A3720002-119; or 900A3720002-113 with 900A3720002-121.

(ii) Insert into the RFM the applicable RFM revision, dated November 2, 2001, stating that the pilot must “land as soon as practical” after an IIDS failure:

(A) Revision 4 into RFM CSP-900RFM-1 (Reissue 1);

(B) Revision 1 into CSP-900ERFM-1;

(C) Revision 5 into CSP-902RFM-1 (Reissue 1); or

(D) Revision 2 into CSP-902RFM207E-1.

(b) After replacing the IIDS in accordance with this AD, before further flight, remove the TEMPORARY RFM revisions specified in paragraph (a)(1) of this AD if inserted into the RFM, and insert into the RFM the applicable RFM revision specified in paragraph (a)(2)(ii) of this AD.

(c) An alternative method of compliance or adjustment of the compliance time that provides an acceptable level of safety may be used if approved by the Manager, Los Angeles Aircraft Certification Office (LAACO), FAA. Operators shall submit their requests through an FAA Principal Maintenance Inspector, who may concur or comment and then send it to the Manager, LAACO.

Note 2: Information concerning the existence of approved alternative methods of compliance with this AD, if any, may be obtained from the LAACO.

(d) Special flight permits may be issued in accordance with 14 CFR 21.197 and 21.199 to operate the helicopter to a location where the requirements of this AD can be accomplished.

(e) The power test shall be done in accordance with the Accomplishment Instructions, paragraphs 2.B.(1), 2.B.(2), and 2.B.(3), of MD Helicopters Service Bulletin SB900-081R1, dated November 8, 2001. This incorporation by reference was approved by the Director of the Federal Register in accordance with 5 U.S.C. 552(a) and 1 CFR part 51. Copies may be obtained from MD Helicopters Inc., Attn: Customer Support Division, 4555 E. McDowell Rd., Mail Stop M615-GO48, Mesa, Arizona 85215-9734, telephone 1-800-388-3378, fax 480-891-6782, or on the web at www.mdhelicopters.com. Copies may be inspected at the FAA, Office of the Regional Counsel, Southwest Region, 2601 Meacham Blvd., Room 663, Fort Worth, Texas; or at the Office of the Federal Register, 800 North Capitol Street, NW., suite 700, Washington, DC.

(f) This amendment becomes effective on February 1, 2002, to all persons except those persons to whom it was made immediately effective by Emergency AD 2001-25-51, issued December 7, 2001, which contained the requirements of this amendment.

Issued in Fort Worth, Texas, on January 9, 2002.
David A. Downey,
Manager, Rotorcraft Directorate, Aircraft Certification Service.

[FR Doc. 02-1054 Filed 1-16-02; 8:45 am]

BILLING CODE 4910-13-U